DEPARTMENT OF DEFENSE

Office of the Secretary

[Transmittal Nos. 15-28]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 15-28 with attached transmittal, policy justification, and Sensitivity of Technology.

Dated: May 8, 2015.
Aaron Siegel,
Alternate OSD Federal Register Liaison Officer, Department of Defense.

Transmittal No. 15-28

Notice of Proposed Issuance of Letter of Offer Pursuant to Section 36(b)(1) of the Arms Export Control Act, as amended

(i) Prospective Purchaser: Indonesia

(ii) Total Estimated Value:

Major Defense Equipment * | $36 million
Other | $11 million
TOTAL | $47 million

(iii) Description and Quantity or Quantities of Articles or Services under Consideration for Purchase: 30 AIM-9X-2 Sidewinder Block II All-Up-Round Missiles, 20 AIM-9X-2 Captive Air Training Missiles (CATM), 2 CATM-9X-2 Block II Tactical Missile Guidance Units, 4 CATM-9X-2 Block II Guidance Units, and 2 Dummy Air Training Missiles, containers, test sets and support equipment, spare and repair parts, publications and technical documents, personnel training and training equipment, U.S. Government and contractor technical assistance, and other related elements of logistics and program support.

(iv) Military Department: Navy (ALC)

(v) Prior Related Cases: None

(vi) Sales Commission, Fee, etc., Paid, Offered, or Agreed to be Paid: None

(vii) Sensitivity of Technology Contained in the Defense Article or Defense Services Proposed to be Sold: See Annex attached.

(viii) Date Report Delivered to Congress: 04 May 2015

* as defined in Section 47(6) of the Arms Export Control Act.

POLICY JUSTIFICATION

Indonesia—AIM-9X-2 Sidewinder Missiles

The Government of Indonesia has requested a possible sale of 30 AIM-9X-2 Sidewinder Block II All-Up-Round Missiles, 20 AIM-9X-2 Captive Air Training Missiles (CATM), 2 CATM-9X-2 Block II Tactical Missile Guidance Units, 4 CATM-9X-2 Block II Guidance Units, and 2 Dummy Air Training Missiles, containers, test sets and support equipment, spare and repair parts, publications and technical documents, personnel training and training equipment, U.S. Government and contractor technical assistance, and other related elements of logistics and program support. The estimated cost is $47 million.

This proposed sale will contribute to the foreign policy objectives and national security interests of the United States by making Indonesia more capable of defeating threats to regional stability and strengthening its homeland defense. It will lessen the probability that Indonesia will need to rely upon deployment of U.S. combat forces to maintain or restore stability in the region.

The proposed sale also will improve Indonesia's capability in current and future coalition efforts. Acquisition of the AIM-9X missile supports Indonesia's efforts to become a more capable defensive force and will also provide key elements required for interoperability with U.S. forces. Indonesia should have no difficulty absorbing this new capability into its armed forces.

The proposed sale of this weapon system will not alter the basic military balance in the region.

The principal contractor will be Raytheon Missile Systems Company in Tucson, Arizona. There are no known offset requirements in connection with this potential sale.

Implementation of this proposed sale may require the assignment of additional U.S. Government or contractor personnel to Indonesia on a temporary basis in conjunction with program technical and management oversight and support requirements.

There will be no adverse impact on U.S. defense readiness as a result of this proposed sale.

Transmittal No. 15-28

Notice of Proposed Issuance of Letter of Offer Pursuant to Section 36(b)(1) Of the Arms Export Control Act

Annex

Item No. vii

(vii) Sensitivity of Technology:

1. The AIM-9X-2 Block II Sidewinder Missile represents a substantial increase in missile acquisition and kinematics performance over the AIM-9M and replaces the AIM-9X Block I Missile. The missile includes a high off-boresight seeker, enhanced countermeasure rejection capability, low drag/high angle of attack airframe and the ability to integrate the Helmet Mounted Cueing System. The software algorithms are the most sensitive portion of the AIM-9X-2 missile. The software continues to be modified via a pre-planned product improvement (P³I) program in order to improve its counter-countermeasure capabilities. No software source code or algorithms will be released. The missile is classified as Confidential.

2. The AIM-9X-2 will result in the transfer of sensitive technology and information. The equipment, hardware, and documentation are classified Confidential. The software and operational performance are classified Secret. The seeker/guidance control section and the target detector are Confidential and contain sensitive state-of-the-art technology. Manuals and technical documentation that are necessary or support operational use and organizational management are classified up to Secret. Performance and operating logic of the counter-countermeasures circuits are classified Secret. The hardware, software, and data identified are classified to protect vulnerabilities, design and performance parameters and similar critical information.

3. If a technologically advanced adversary were to obtain knowledge of the specific hardware and software elements, the information could be used to develop countermeasures that might reduce weapon system effectiveness or be used in the development of a system with similar advanced capabilities.

4. A determination has been made that the recipient country can provide the same degree of protection for the sensitive technology being released as the U.S. Government. This sale is necessary in furtherance of the US foreign policy and national security objectives outlined in the Policy Justification.

5. All defense articles and services listed in this transmittal have been authorized for release and export to the Government of Indonesia.

[FR Doc. 2015-11613 Filed 5-13-15; 8:45 am]

BILLING CODE 5001-06-P